SMALL BUSINESS ADMINISTRATION

[Disaster Declaration #10435 and #10436]

Texas Disaster # TX-00154

AGENCY: U.S. Small Business Administration.

ACTION: Notice

SUMMARY: This is a notice of an Administrative declaration of a disaster for the State of Texas dated 03/31/2006.

Incident: Hail, high winds, and a tornado.

Incident Period: 03/19/2006.

Effective Date: 03/31/2006.

Physical Loan Application Deadline Date: 05/30/2006.

Economic Injury (EIDL) Loan Application Deadline Date: 01/02/2007.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration applications for disaster loans may be filed at the address listed above or other locally announced locations.

The following areas have been determined to be adversely affected by the disaster:

Primary Counties:

UVALDE

Contiguous Counties: Texas

Bandera, Kinney, Real, Edwards, Maverick, Zavala, Frio, Medina

The Interest Rates are:

| Percent
Homeowners with credit available elsewhere | 5.750
Homeowners without credit available elsewhere | 2.875
Business with credit available elsewhere | 7.408
Business and small agricultural cooperatives without credit available elsewhere | 4.000
Other (including non-profit organizations) with credit available elsewhere | 5.000
Business and non-profit organizations without credit available elsewhere | 4.000

The States which received an EIDL Declaration # is Texas.

(Catalog of Federal Domestic Assistance Numbers 59002 and 59008)

Dated: March 31, 2006.
Hector V. Barreto,
Administrator.

[FR Doc. E6-5061 Filed 4-6-06; 8:45 am]

BILLING CODE 8025-01-P